DEPARTMENT OF COMMERCE

National Oceanic and Atmospheric Administration

[RTID 0648-XF394]

Gulf Fishery Management Council; Public Meetings

AGENCY: National Marine Fisheries Service (NMFS), National Oceanic and Atmospheric Administration (NOAA), Commerce.

ACTION: Notice; public hearings and webinars.

SUMMARY: The Gulf Fishery Management Council (Gulf Council) will hold two webinars to solicit public comments on Reef Fish Amendment 62: Modifications to Gulf Red Grouper Management Measures.

DATES: The public hearing webinars will take place Thursday, January 15 and Tuesday, January 20, 2026. The webinars will begin at 6 p.m. EST and will conclude no later than 8 p.m. EST. For specific dates and times, see SUPPLEMENTARY INFORMATION. Written public comments must be received on or before 5 p.m. EST on January 20, 2026.

ADDRESSES: Please visit the Gulf Council website at www.gulfcouncil.org for meeting materials, webinar registration information, and to submit written comments.

Meeting address: The public hearings will be held via virtual webinars. For dates and times see SUPPLEMENTARY INFORMATION below.

Council address: Gulf Fishery Management Council, 4107 W Spruce Street, Suite 200, Tampa, FL 33607; telephone: (813) 348-1630.

FOR FURTHER INFORMATION CONTACT: Emily Muehlstein; Public Information Officer; emily.muehlstein@gulfcouncil.org, Gulf Fishery Management Council; telephone: (813) 348-1630.

SUPPLEMENTARY INFORMATION: The agenda for the virtual public hearings is as follows: Council staff will begin with a brief presentation on Reef Fish Amendment 62 that modifies the Gulf Red Grouper overfishing limit, acceptable biological catch, and total annual catch limit, sector allocations, and sector annual catch limits, as well as considers removal of the February-March recreational Shallow-water Grouper closure in the Gulf.

Staff and a Council member will be available to answer any questions, and the public will have the opportunity to provide testimony on the amendment and other related testimony.

Scheduled Webinars:

Thursday, January 15, 2026; via webinar

Tuesday, January 20, 2026; via webinar

Visit www.gulfcouncil.org website and click on the “meetings and public hearings” tab for registration information. After registering, you will receive a confirmation email containing information about joining the webinar.

Special Accommodations

These meetings are physically accessible to people with disabilities. Requests for sign language interpretation or other auxiliary aids should be directed to Kathy Pereira (see ADDRESSES), at least 10 working days prior to the meeting date.

Authority: 16 U.S.C. 1801 et seq.

Dated: December 22, 2025.
Anna Michelle Harrison,
Acting Deputy Director, Office of Sustainable Fisheries, National Marine Fisheries Service.

[FR Doc. 2025-23927 Filed 12-29-25; 8:45 am]

BILLING CODE 3510-22-P